COMMITTEE FOR PURCHASE FROM PEOPLE WHO ARE BLIND OR SEVERELY DISABLED

Procurement List; Proposed Additions and Deletions

ACTION: Proposed Additions to and Deletions from the Procurement List.

SUMMARY: The Committee is proposing to add to the Procurement List products and services to be furnished by nonprofit agencies employing persons who are blind or have other severe disabilities, and to delete products and services previously furnished by such agencies.

Comments Must Be Received On or Before: November 11, 2007.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and service are proposed for addition to Procurement List for production by the nonprofit agencies listed:

Products

Cable Assembly, Brake.

NSN: 2590-01-265-3185—Parking (Rear Left).

Coverage: C-List for the requirements of the Defense Supply Center Columbus, Columbus, OH.

Control Assembly, Push-Pull.

NSN: 2590-01-279-5714—(Hand Throttle Control Cable).

Coverage: C-List for the requirements of the Defense Supply Center Columbus, Columbus, OH.

NPA: Opportunities, Inc. of Jefferson County, Fort Atkinson, WI.

Contracting Activity: Defense Supply Center Columbus, Columbus, OH.

Services

Service Type/Location: Medical Transcription, Naval Medical Center (NMCSD), 34800 Bob Wilson Drive, San Diego, CA.

NPA: Lighthouse for the Blind of Houston, Houston, TX.

Contracting Activity: Fleet and Industrial Supply Center, San Diego, CA.

Service Type/Location: Janitorial Services, Ventura Veterans Center, 790 East Santa Clara Street, Ventura, CA.

NPA: Association for Retarded Citizens—Ventura County, Inc., Ventura, CA.

Contracting Activity: Department of Veterans Affairs, Long Beach, CA.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

Comments on this certification are invited. Commenters should identify the statement(s) underlying the certification on which they are providing additional information.

End of Certification

The following products and services are proposed for deletion from the Procurement List:

Products

Meal Kits

NSN: 8970-01-E59-0242B.

NSN: 8970-01-E59-0243B.

NPA: UNKNOWN.

Contracting Activity: U.S. Property and Fiscal Officer for Louisiana, New Orleans, LA.

NSN: 8970-00-NSH-0012A.

NSN: 8970-00-NSH-0013A.

NSN: 8970-01-E59-0239B.

NSN: 8970-01-E59-0240B.

NSN: 8970-01-E59-0241B.

NSN: 8970-01-E59-0244B.

NSN: 8970-01-E59-0245A.

NPA: UNKNOWN.

Contracting Activity: U.S. Property and Fiscal Officer for Louisiana, New Orleans, LA.

Contracting Activity: National Guard Bureau, Oklahoma, OK.

Contracting Activity: National Guard Bureau, Topeka, KS.

Services

Service Type/Location: Janitorial/Custodial, Wallace Ranger District of the Panhandle National Forest, Coeur d'Alene, ID.

NPA: TESH, Inc., Coeur d'Alene, ID.

Contracting Activity: Panhandle National Forest, Coeur d'Alene, ID.

Service Type/Location: Janitorial/Custodial, U.S. Federal Building, Courthouse and Post Office, Moscow, ID.

NPA: UNKNOWN.

Contracting Activity: General Services Administration, Auburn, Washington.

Service Type/Location: Janitorial/Grounds Maintenance, Federal Courthouse, Pocatello, ID.

NPA: New Day Products, Inc., Pocatello, ID.

Contracting Activity: General Service Administration, Public Buildings Service, Auburn, WA.

Service Type/Location: Custodial Services, Department of Homeland Security, Border Patrol—Curlew Station, Curlew, WA.

NPA: Ferry County Community Services, Republic, WA.

Contracting Activity: U.S. Bureau of Customs & Border Protection, Spokane, WA.

Service Type/Location: Janitorial/Custodial, Naval & Marine Corps Reserve Center, Billings, MT.

NPA: Community Option Resource Enterprises, Inc., Billings, MT.

Contracting Activity: Naval Facilities Engineering Command, Everett, WA.

Service Type/Location: Janitorial/Custodial, U.S. Army Reserve Facility, Salem, OR.

NPA: Garten Services, Inc., Salem, OR.

Contracting Activity: Department of the Army, Fort Lewis, WA.

Service Type/Location: Tub & Burlap Washing, Rogue River National Forest, J. Herbert Stone Nursery, Central Point, OR.

NPA: Living Opportunities, Inc., Medford, OR.

Contracting Activity: U.S. Department of Agriculture, Forest Service, Medford, OR.

Service Type/Location: Janitorial/Grounds Maintenance, Pactola Harney Ranger District Recreation Areas, Black Hills National Forest, Custer, SD.

NPA: Southern Hills Developmental Services, Inc., Hot Springs, SD.

Contracting Activity: U.S. Department of Agriculture, Custer, SD.

Kimberly M. Zeich,
Director, Program Operations.

[FR Doc. E7-20147 Filed 10-11-07; 8:45 am]

BILLING CODE 6353-01-P